DEPARTMENT OF HEALTH AND HUMAN SERVICES

Centers for Medicare & Medicaid Services

[Document Identifier: CMS-10361]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection; Title of Information Collection: Request for Adjustment to the Medical Loss Ratio Standard for a State's Individual Market; Use: Under section 2718 of the Public Health Service Act (PHS Act), a health insurance issuer (issuer) offering group or individual health insurance coverage must submit a report to the Secretary beginning in June of 2012 for calendar year 2011. The reported data allows for the calculation of an issuer's medical loss ratio (MLR) by market (individual, small group, and large group) within each State in which the issuer conducts business. The PHS Act establishes a MLR standard for each market segment that issuers must meet. A health insurance issuer who fails to meet the MLR standard for a plan year must rebate to enrollees, on a pro rata basis, the difference between its MLR and the MLR standard.

Section 2718(b)(1)(A)(ii) allows the Secretary to lower the 80% MLR standard in the individual market in a State if the application of the 80% MLR may destabilize the individual market in such State. An interim final rule (IFR) implementing the MLR was published on December 1, 2010 (75 FR 74865) and was modified by technical corrections on December 30, 2010 (75 FR 82277), which added Part 158 to Title 45 of the Code of Federal Regulations. The IFR is effective January 1, 2011. Under 45 CFR 158.301 (75 FR 74864, 74930), States requesting that HHS lower the MLR standard must submit information that supports their assertion that the individual market in their State may destabilize absent an adjustment to the MLR. Much of the information requested is currently only available at the State level. HHS must have such information in order to ascertain whether market destabilization has a high likelihood of occurring. Form Number: CMS-10361 (OMB Control No. 0938-1114); Frequency: Once; Affected Public: State, local or tribal governments; Number of Respondents: 20; Number of Responses: 20; Average Hours per Response: 185; Total Annual Hours: 3,700. (For policy questions regarding this collection, contact Carol Jimenez at (301) 492-4109. For all other issues regarding this collection, call (410) 786-1326.)

To be assured consideration, comments and recommendations for the proposed information collections must be received by the OMB desk officer at the address below, no later than 5 p.m. on June 30, 2011.

OMB, Office of Information and Regulatory Affairs, Attention: CMS Desk Officer, Fax Number: (202) 395-6974, E-mail: OIRA_submission@omb.eop.gov.

Dated: May 25, 2011.
Martique Jones,
Director, Regulations Development Group, Division B, Office of Strategic Operations and Regulatory Affairs.

[FR Doc. 2011-13421 Filed 5-27-11; 8:45 am]

BILLING CODE 4120-01- P